DEPARTMENT OF THE INTERIOR

National Park Service

General Management Plan, Termination of Environmental Impact Statement in Favor of an Environmental Assessment, Aztec Ruins National Monument, New Mexico

AGENCY: National Park Service, Department of Interior.

ACTION: Notice of Termination of an Environmental Impact Statement (EIS) for the General Management Plan for Aztec Ruins National Monument, in favor of an Environmental Assessment (EA).

SUMMARY: The National Park Service (NPS) is terminating preparation of an EIS for the General Management Plan for Aztec Ruins National Monument, New Mexico. A Notice of Intent to prepare an EIS for the Aztec Ruins National Monument General Management Plan was published in the Federal Register on October 8, 2003 (68 FR 58130), and followed by a scoping newsletter. The NPS has since determined that an EA rather than an EIS is the appropriate level of environmental documentation for the plan.

SUPPLEMENTARY INFORMATION: The General Management Plan will establish the overall management direction for the next 15 to 20 years. Five scoping information meetings were conducted in October 2003 with American Indian tribes and the general public at the park, and in the cities of Aztec, Santa Fe, Albuquerque, and Gallup, New Mexico. Initial scoping did not result in significant impacts being identified by the public. Additionally, the preliminary analysis of the alternatives does not indicate that significant impacts will result from implementation of any of the alternatives. The NPS planning team has developed three alternatives, including the No Action Alternative (1)—Continuation of Existing Conditions, and two action alternatives. All alternatives respond in various degrees to the ideas presented during scoping. The two action alternatives (2 and 3) would expand park-related functions within the boundary, would focus preservation activities within the boundary on resources throughout the monument, and would increase visitor understanding and enjoyment by expanding interpretation to include more resources and research within the monument. The Proposed Action (Alternative 3) would place major emphasis on partnerships, civic engagement, and collaborative management opportunities to address issues within the park boundary, and would promote collaboration and partnerships to help preserve ruins throughout the region. These alternatives will be expanded upon and refined through the planning process.

DATES: The NPS will notify the public by mail, Web site, and other means, of public review periods and meetings associated with the Draft GMP/EA. All public review and other written public information will be made available Online at http://parkplanning.nps.gov/azru.

FOR FURTHER INFORMATION CONTACT: Dennis Carruth, Superintendent, Aztec Ruins National Monument, #84 County Road 2900, Aztec, New Mexico 87410; telephone, (505) 334-6174, extension 222; e-mail azru_superintendent@nps.gov.

Dated: April 1, 2009.
Rick M. Frost,
Acting Regional Director, Intermountain Region, National Park Service.

[FR Doc. E9-8667 Filed 4-14-09; 8:45 am]

BILLING CODE 4312-ET-P